DEPARTMENT OF THE TREASURY

Financial Crimes Enforcement Network

31 CFR Part 1010

RIN 1506-AB08

Amendment to the Bank Secrecy Act Regulations—Reports of Foreign Financial Accounts; Correction

AGENCY: Financial Crimes Enforcement Network, Treasury (“FinCEN”), Treasury.

ACTION: Correcting amendment.

SUMMARY: This document corrects a minor typographical error appearing in the final rule published in the Federal Register of February 24, 2011.

DATES: Effective on June 24, 2011.

FOR FURTHER INFORMATION CONTACT: Regulatory Policy and Programs Division, FinCEN, (800-949-2732).

SUPPLEMENTARY INFORMATION: In rule FR Doc. 2011-4048, published on February 24, 2011 (76 FR 10234), on page 10245, in the third column, in line 16, 31 CFR 1010.350(d), the citation to “31 CFR 1010(hhh)” should have read “31 CFR 1010.100(hhh).” This document corrects the citation.

Because this document is correcting a minor typographical error, FinCEN finds that prior notice and comment under the Administrative Procedure Act are unnecessary.

List of Subjects in 31 CFR Part 1010

Administrative practice and procedure, Banks, Banking, Brokers, Currency, Foreign banking, Foreign currencies, Gambling, Investigations, Penalties, Reporting and recordkeeping requirements, Securities, Terrorism.

Accordingly, 31 CFR part 1010 is corrected by making the following correcting amendment:

PART 1010—GENERAL PROVISIONS

1. The authority citation for part 1010 continues to read as follows:

Authority: 12 U.S.C. 1829b and 1951-1959; 31 U.S.C. 5311-5314 and 5316-5332; title III, sec. 314, Pub. L. 107-56, 115 Stat. 307.

2. In § 1010.350, paragraph (d) is revised to read as follows:

§ 1010.350 Reports of foreign financial accounts.

* * * * *

(d) Foreign country. A foreign country includes all geographical areas located outside of the United States as defined in 31 CFR 1010.100(hhh).

* * * * *

Dated: June 21, 2011.
Charles M. Steele,
Deputy Director, Financial Crimes Enforcement Network.

[FR Doc. 2011-15900 Filed 6-23-11; 8:45 am]

BILLING CODE 4810-02-P